DEPARTMENT OF COMMERCE

National Institute of Standards and Technology

[Docket Number 140723615-4615-01]

RIN 0693-ZB08

Award Competitions for Hollings Manufacturing Extension Partnership (MEP) Centers in the States of Colorado, Connecticut, Indiana, Michigan, New Hampshire, North Carolina, Oregon, Tennessee, Texas and Virginia

AGENCY: National Institute of Standards and Technology (NIST), United States Department of Commerce (DoC).

ACTION: Notice of funding availability.

SUMMARY: NIST invites applications from eligible applicants in connection with NIST's funding of up to ten (10) separate MEP cooperative agreements for the operation of an MEP Center in the designated States' service areas and in the funding amounts identified in Section II.2. of the corresponding Announcement of Federal Funding Opportunity (FFO). NIST anticipates awarding one (1) cooperative agreement for each of the identified States. The objective of the MEP Center Program is to provide manufacturing extension services to primarily small and medium-sized manufacturers within the State designated in the applications. The selected MEP Centers will become part of the MEP national system of extension service providers, currently comprised of more than 400 Centers and field offices located throughout the United States and Puerto Rico.

DATES: Electronic applications must be received no later than 11:59 p.m. Eastern Time on October 15, 2014. Applications received after the deadline will not be reviewed or considered. The approximate start date for awards under this notice and the corresponding FFO is expected to be July 1, 2015.

ADDRESSES: Applications must be submitted electronically through www.Grants.gov. NIST will not accept applications submitted by mail, facsimile, or by email. See Section IV. in the Full Announcement Text of the corresponding FFO.

FOR FURTHER INFORMATION CONTACT: Administrative, budget, cost-sharing, and eligibility questions and other programmatic questions should be directed to Diane Henderson at Tel: (301) 975-5105; Email: diane.henderson@nist.gov; Fax: (301) 963-6556. Grants Administration questions should be addressed to: Jannet Cancino, Grants and Agreements Management Division, National Institute of Standards and Technology, 100 Bureau Drive, Stop 1650, Gaithersburg, MD 20899-1650; Tel: (301) 975-6544; Email: jannet.cancino@nist.gov; Fax: (301) 926-6319. For assistance with using Grants.gov contact Christopher Hunton at Tel: (301) 975-5718; Email: christopher.hunton@nist.gov; Fax: (301) 975-8884. Questions submitted to NIST/MEP may be posted as part of an FAQ document, which will be periodically updated on the MEP Web site at http://www.nist.gov/mep/ffo_state-competitions.cfm.

SUPPLEMENTARY INFORMATION:

Electronic access: Applicants are strongly encouraged to read the corresponding Federal Funding Opportunity (FFO) announcement available at www.grants.gov for complete information about this program, including all program requirements and instructions for applying electronically. Paper applications or electronic applications submitted other than through www.grants.gov will not be accepted. The FFO may be found by searching under the Catalog of Federal Domestic Assistance Name and Number provided below.

Authority: 15 U.S.C. 278k, as implemented in 15 CFR part 290.

Catalog of Federal Domestic Assistance Name and Number: Manufacturing Extension Partnership—11.611.

Webinar Information Session: NIST/MEP will hold an information session for organizations that are considering applying for this funding opportunity. This webinar will provide general information regarding MEP and offer general guidance on preparing proposals. NIST/MEP staff will be available at the webinar to answer general questions. During the webinar, proprietary technical discussions about specific project ideas will not be permitted. Also, NIST/MEP staff will not critique or provide feedback on any project ideas during the webinar or at any time before submission of a proposal to MEP. However, NIST/MEP staff will provide information about the MEP eligibility and cost-sharing requirements, evaluation criteria and selection factors, selection process, and the general characteristics of a competitive MEP proposal during this webinar. The webinar will be held approximately fourteen (14) business days after posting of the FFO and publication of this notice. The exact date and time of the webinar will be posted on the MEP Web site at http://www.nist.gov/mep/ffo_state-competitions.cfm. The webinar will be recorded, and a link to the recording will be posted on the MEP Web site. In addition, the webinar presentation will be available after the webinar on the MEP Web site. Organizations wishing to participate in the webinar must register in advance by contacting MEP by email at mepffo@nist.gov. Participation in the webinar is not required in order for an organization to submit an application pursuant to this notice and the corresponding FFO.

Program Description: NIST invites applications from eligible applicants in connection with NIST's funding up to ten (10) separate MEP cooperative agreements for the operation of an MEP Center in the designated State service areas and in the funding amounts identified in Section II.2. of the corresponding FFO. NIST anticipates awarding one (1) cooperative agreement for each of the identified States. The objective of the MEP Center Program is to provide manufacturing extension services to primarily small and medium-sized manufacturers within the State designated in the applications. The selected MEP Centers will become part of the MEP national system of extension service providers, currently comprised of more than 400 Centers and field offices located throughout the United States and Puerto Rico.

See the corresponding FFO for further information about the Manufacturing Extension Partnership and the MEP National Network.

The MEP Program is not a Federal research and development program. It is not the intent of this program that awardees will perform systematic research.

To learn more about the MEP Program, please go to http://www.nist.gov/mep/.

Funding Availability: NIST anticipates funding ten (10) MEP Center awards with an initial five-year period of performance in accordance with the multi-year funding policy described in Section II.3. of the corresponding FFO. Initial funding for the projects listed in this notice and the corresponding FFO is contingent upon the availability of appropriated funds.

Below are the ten (10) States identified for funding as part of this notice and the corresponding FFO:

MEP center location and assigned geographical service area (by state) | Annual federal funding for each year of the award | Total federal funding for 5 year award period
Colorado | $1,668,359 | $8,341,795
Connecticut | 1,476,247 | 7,381,235
Indiana | 2,758,688 | 13,793,440
Michigan | 4,229,175 | 21,145,875
New Hampshire | 628,176 | 3,140,880
North Carolina | 3,036,183 | 15,180,915
Oregon | 1,792,029 | 8,960,145
Tennessee | 1,976,348 | 9,881,740
Texas | 6,700,881 | 33,504,405
Virginia | 1,722,571 | 8,612,855

Multi-Year Funding Policy. When an application for a multi-year award is approved, funding will usually be provided for only the first year of the project. Recipients will be required to submit detailed budgets and budget narratives prior to the award of any continued funding. Continued funding for the remaining years of the project will be awarded by NIST on a non-competitive basis, and may be adjusted higher or lower from year-to-year of the award, contingent upon satisfactory performance, continued relevance to the mission and priorities of the program, and the availability of funds. Continuation of an award to extend the period of performance and/or to increase or decrease funding is at the sole discretion of NIST.

Potential for Additional 5 Years. Initial awards issued pursuant to this notice and the corresponding FFO are expected to be for up to five (5) years with the possibility for NIST to renew for an additional 5 years at the end of the initial award period. The review processes in 15 CFR 290.8 will be used as part of the overall assessment of the recipient, consistent with the potential long-term nature and purpose of the program. In considering renewal for a second five-year, multi-year award term, NIST will evaluate the results of the annual reviews and the results of the 3rd Year peer-based Panel Review findings and recommendations as set forth in 15 CFR 290.8, as well as the Center's progress in addressing findings and recommendations made during the various reviews. The full process is expected to include programmatic, policy, financial, administrative, and responsibility assessments, and the availability of funds, consistent with Department of Commerce and NIST policies and procedures in effect at that time.

Kick-Off Conferences

Each recipient will be required to attend a kick-off conference, which will be held at NIST at the beginning of the project period, to help ensure that the MEP Center operator has a clear understanding of the program and its components. The kick-off conference will take place at NIST/MEP headquarters in Gaithersburg, MD, during which time NIST will: (1) Orient MEP Center key personnel to the MEP program; (2) explain program and financial reporting requirements and procedures; (3) identify available resources that can enhance the capabilities of the MEP Center; and (4) develop a detailed five-year operating plan. NIST/MEP anticipates an additional set of site visits at the MEP Center and/or telephonic meetings with the recipient to finalize the five-year operating plan.

The kick-off conference will take up to approximately 5 days and must be attended by the MEP Center Director, along with up to two additional MEP Center employees. Applicants must include travel and related costs for the kick-off conference as part of the budget for year one (1), and these costs should be reflected in the SF-424A covering the first four (4) years of the project. (See Section IV.2.a.(2). of the corresponding FFO.) These costs must also be reflected in the budget table and budget narrative for year 1, which is submitted as part of the budget tables and budget narratives section of the Technical Proposal. (See Section IV.2.a.(6).(d). of the corresponding FFO.)

MEP System-Wide Meetings

NIST/MEP typically organizes system-wide meetings four times a year (generally on a quarterly basis) in an effort to share best practices, new and emerging trends, and additional topics of interest. These meetings take place at NIST/MEP headquarters in Gaithersburg, MD and typically involve 3-4 days of resource time and associated travel costs. The MEP Center Director must attend these meetings, along with up to two additional MEP Center employees.

Applicants must include travel and related costs for four quarterly MEP system-wide meetings in each of the five (5) project years (4 meetings per year; 20 total meetings over five-year award period). These costs must be reflected in the SF-424A covering the first four (4) years of the project (See Section IV.2.a.(2). of the corresponding FFO) and in the SF-424A covering year five (5) of the project (See Section IV.2.a.(10). of the corresponding FFO). These costs must also be reflected in the budget tables and budget narratives for each of the project's five (5) years, which are submitted in the budget tables and budget narratives section of the Technical Proposal. (See Section IV.2.a.(6).(d). of the corresponding FFO).

Cost Share or Matching Requirement: Non-Federal cost sharing of at least 50 percent of the total project costs is required for each of the first through the third year of the award, with an increasing minimum non-federal cost share contribution beginning in year 4 of the award as follows:

Award year | Maximum NIST share | Minimum non-federal share
1-3 | 1/2 | 1/2
4 | 2/5 | 3/5
5 and beyond | 1/3 | 2/3

Non-Federal cost sharing is that portion of the project costs not borne by the Federal Government. The applicant's share of the MEP Center expenses may include cash, services, and third party in-kind contributions, as described at 15 CFR 14.23 or 24.24, as applicable, and in the MEP program regulations at 15 CFR 290.4(c). No more than 50% of the applicant's total non-Federal cost share for any year of the award may be from third party in-kind contributions of part-time personnel, equipment, software, rental value of centrally located space, and related contributions, per 15 CFR 290.4(c)(5). The source and detailed rationale of the cost share, including cash, full- and part-time personnel, and in-kind donations, must be documented in the budget tables and budget narratives submitted with the application and will be considered as part of the review under the evaluation criterion found in Section V.1.c.i. of the corresponding FFO.

Recipients must meet the minimum non-federal cost share requirements for each year of the award as identified in the chart above. For purposes of the MEP Program, “program income” (as defined in 15 CFR 14.2(aa) and in 15 CFR 24.25(b), as applicable) generated by an MEP Center may be used by a recipient towards the required non-federal cost share under an MEP award.

Any cost sharing must be in accordance with the “cost sharing or matching” provisions of 15 CFR part 14, Uniform Administrative Requirements for Grants and Cooperative Agreements With Institutions of Higher Education, Hospitals, Other Non-Profit, and Commercial Organizations or 15 CFR part 24, Uniform Administrative Requirements for Grants and Cooperative Agreements to State and Local Governments, as applicable.

As with the Federal share, any proposed costs included as non-Federal cost sharing must be an allowable/eligible cost under this program and the following applicable Federal cost principles: (1) Institutions of Higher Education: 2 CFR part 220 (OMB Circular A-21); (2) Nonprofit Organizations: 2 CFR part 230 (OMB Circular A-122); and (3) State, Local and Indian Tribal Governments: 2 CFR part 225 (OMB Circular A-87). Any proposed non-Federal cost sharing will be made a part of the cooperative agreement award and will be subject to audit if the project receives MEP funding.

Eligibility: The eligibility requirements given in this section will be used in lieu of those given in the MEP regulations found at 15 CFR part 290, specifically 15 CFR 290.5(a)(1). Each applicant for and recipient of an MEP award must be a U.S.-based nonprofit institution or organization. For the purpose of this notice and the corresponding FFO, nonprofit institutions include Section 501(c)(3) non-profit organizations, non-profit and State universities, non-profit community and technical colleges, and State, local or Tribal governments. Existing MEP awardees and new applicants who meet the eligibility criteria set forth in this section may apply. An eligible organization may work individually or may include proposed subawards to eligible organizations or proposed contracts with any other organization as part of applicant's proposal, effectively forming a team. However, as discussed in Section III.3.b. of the corresponding FFO, NIST generally will not fund applications that propose an organizational or operational structure that, in whole or in part, delegates or transfers to another person, institution, or organization the applicant's responsibility for core MEP Center management and oversight functions.

Application Requirements: Applications must be submitted in accordance with the requirements set forth in the corresponding FFO announcement.

Application/Review Information: The evaluation criteria, selection factors, and review and selection process provided in this section will be used for this competition in lieu of those provided in the MEP regulations found at 15 CFR part 290, specifically 15 CFR 290.6 and 290.7.

Evaluation Criteria: The evaluation criteria that will be used in evaluating applications and assigned weights, with a maximum score of 100, are listed below.

a. Executive Summary and Project Narrative. (40 points). NIST/MEP will evaluate the extent to which the applicant's Executive Summary and Project Narrative demonstrate how the applicant will efficiently and effectively establish an MEP Center and provide manufacturing extension services to primarily small and medium-sized manufacturers in the applicable State-wide geographical service area identified in Section II.2. of the corresponding FFO. Reviewers will consider the following topics when evaluating the Executive Summary and Project Narrative:

i. Market Understanding (10 points). Reviewers will assess the strategy proposed for the Center to define the target market, understand the needs of manufacturers, with an emphasis on the small and medium-sized manufacturers, and to deliver appropriate services to meet identified needs. The following sub-topics will be evaluated and given equal weight:

(1) Market Segmentation. Reviewers will assess the extent to which the applicant understands the market of potential customers and the varying needs of different market segments. In addition to the core MEP segment of established small and medium-sized manufacturers with 25-250 employees, reviewers will assess the applicant's understanding as described in the proposal of non-traditional MEP customers such as rural, emerging, very small, or underserved manufacturers. Reviewers will evaluate the extent to which applicants:

• Delineate target service regions and manufacturers;

• make use of appropriate quantitative and qualitative data sources and market intelligence to support proposed strategies and approaches to defining and segmenting the market; and

• align priority industries and regions with other State and regional priorities and investments.

(2) Needs Identification and Service Offerings. Reviewers will assess the extent to which the applicant addresses the capabilities to provide services for both top line growth and bottom line improvement through:

• serving the State's manufacturing base, industry types, and technology requirements;

• leveraging new manufacturing technology, techniques, and processes usable by small and medium-sized manufacturers;

• meeting existing and emerging needs of State manufacturers;

• making use of multiple sources of qualitative and quantitative information to determine manufacturers' needs and how best to address them;

• making use of resources, tools and services appropriate for the targeted small and medium-sized manufacturers to meet identified needs of the State;

• incorporating a range of complementary service providers and partners to deliver broad expertise and maximum value to manufacturing clients; and

• describing plans to provide services to very small, rural, emergent, or underserved small and medium-sized manufacturers.

ii. Center Strategy (10 points). Reviewers will assess the applicant's strategy proposed for the Center to deliver services that meet manufacturers' needs and generate impact. Reviewers will assess the extent to which the applicant:

• Incorporates the market analysis described in criterion a.i.(1) above to inform strategies, products and services;

• defines a strategy for delivering services that balances market penetration with impact and revenue generation, addressing the needs of manufacturers, with an emphasis on the small and medium-sized manufacturers;

• defines the State ecosystem in which the Center will operate, including universities, community colleges, technology-based economic developers, and others; and

• supports achievements of the MEP mission and objectives while also satisfying the interests of other stakeholders, investors, and partners.

iii. Business Model (20 points). Reviewers will assess the applicant's proposed business model for the Center and its ability to execute the strategy proposed in criterion a.ii. above, based on the market understanding described in criterion a.i. above. The following sub-topics will be evaluated and given equal weight:

(1) Approach to the Market. Reviewers will assess the extent to which the proposed Center:

• Will reach State manufacturers;

• optimizes the use of delivery methods (direct delivery, third party, account management); and

• facilitates the engagement of manufacturers' leadership in strategic discussions related to new technologies, new products, and new markets.

(2) Products and Services. Reviewers will assess the extent to which the proposed Center will:

• Engage expertise both from within the Center and from subrecipients, contractors and strategic partners to make available a wide range of experts and services to manufacturers;

• deliver services to small and medium-sized manufacturers to encourage adoption of new technologies, development of new products, and sales of products in new markets;

• balance delivering process improvement services with services that will transform and grow manufacturers;

• deliver manufacturing technology and mechanisms for accelerating the adoption of technologies for both process improvement and new product adoption to small and medium-sized manufacturers; and

• support a job-driven training agenda with manufacturing clients, including: (a) Working with manufacturers to determine local or regional hiring needs; (b) coordinating with workforce partners and others to leverage training resources; (c) using data to inform program offerings; (d) promoting on-the-job training through clients and partners; (e) promoting a continuum of education and training leading to credential attainment and career advancement; and (f) measuring employment outcomes and taking action to improve.

(3) Partnership Leverage and Linkages. Reviewers will assess the extent to which the proposed Center will:

• Establish a sustainable business model, incorporating federal, state and local investment, small and medium-sized manufacturing clients, and other sources; and

• make use of effective resources or partnerships with third parties such as industry, universities, nonprofit economic development organizations, and State Governments likely to amplify the Center's capabilities for delivering growth services.

(4) Performance Measurement and Metrics. Reviewers will assess the extent to which the applicant's proposed approach would utilize a systematic approach to measuring performance that includes:

• client-based business results of importance to key stakeholder groups; and

• operational performance results sufficient for day-to-day management of the Center.

b. Qualifications of the Applicant and Program Management (30 points; Sub-criterion i and ii will be weighted equally). Reviewers will assess the ability of the key personnel and the applicant's management structure to deliver the program and services envisioned for the Center. Reviewers will consider the following topics when evaluating the qualifications of the applicant and of program management:

i. Key Personnel and Organizational Structure. Reviewers will assess the extent to which the:

• Proposed key personnel have the appropriate experience and education in manufacturing, outreach and partnership development to support achievements of the MEP mission and objectives;

• proposed key personnel have the appropriate experience and education to plan, direct, monitor, organize and control the monetary resources of the proposed Center to achieve its business objectives and maximize its value;

• proposed management structure (leadership and governance) is aligned to support the execution of the strategy, products and services;

• proposed staffing plan flows logically from the specified approach to the market and products and service offerings;

• organizational roles and responsibilities of key personnel and staff are clearly delineated;

• proposed field staff structure sufficiently supports the geographic concentrations and industry targets for the region; and

• degree to which the Center's proposed oversight board meets the requirements of Section III.3.c. of the corresponding FFO or, if such a structure is not currently in place or is not expected to continue to meet these requirements at the time of the MEP award, a feasible plan is proposed for developing such an oversight board within 12 months of issuance of an MEP award (expected to be July 2015).

ii. Program Management. Reviewers will assess the extent to which the/an:

• Proposed methodology of program management and internal evaluation is likely to ensure effective operations and oversight and meet program and service delivery objectives;

• proposed performance measurements and metrics are aligned to support the execution of the proposed Center's strategy and business model;

• proposed approach aligns effectively with the proposed key personnel, staff and organizational structure; and

• applicant with past performance deficiencies under the MEP Program (as applicable) identifies the reasons for such performance deficiencies and provides a detailed course of action for ensuring better performance under a new MEP award, or the extent to which an applicant without performance deficiencies under an MEP award (as applicable) describes why such performance would continue under a new MEP award. Applicants without past performance under the MEP Program will not be penalized and will still be eligible to receive the maximum amount of points under this sub-criterion. (Specifically, for applicants with past performance under the MEP Program, each bulleted evaluation factor in this sub-criterion will be worth a maximum of 3.75 points (15 maximum points in total). For applicants without past performance under an MEP Program, each bulleted evaluation factor in this sub-criterion will be worth a maximum of 5 points (15 maximum points in total)).

c. Budget Narrative and Financial Plan. (30 points; Sub-criterion i and ii will be weighted equally). Reviewers will assess the suitability and focus of the applicant's five (5) year budget. The application will be assessed in the following areas:

i. Plans for Meeting the Award's Non-Federal Cost Share Requirements. Reviewers will assess the extent to which the:

• Applicant's funding commitments for cost share are identified and supported and demonstrate allowability, stability, and duration; and

• applicant clearly describes the total level of cost share and detailed rationale of the cost share, including cash and in-kind, within the proposed budget.

ii. Financial Viability. Reviewers will assess the extent to which:

• A reasonable ramp-up or scale-up scope and budget that has the Center fully operational by the 4th year of the project;

• the proposed projections for income and expenditures are allowable and appropriate for the scale of services that are to be delivered by the proposed Center and the service delivery model envisioned;

• the proposal's narrative for each of the budgeted items explains the rationale for each of the budgeted items, including assumptions the applicant used in budgeting for the Center;

• the overall proposed financial plan is sufficiently robust and diversified so as to support the long term sustainability of the Center; and

• the proposed financial plan is aligned to support the execution of the proposed Center's strategy and business model.

Selection Factors: The Selection Factors for this notice and the corresponding FFO are as follows:

a. The availability of Federal funds;

b. Relevance of the proposed project to MEP program goals and policy objectives;

c. Reviewers' evaluations, including technical comments;

d. The need to assure appropriate distribution within the designated State; and/or

e. Whether the project duplicates other projects funded by DoC or by other Federal agencies.

Review and Selection Process:

(1) Initial Administrative Review of Applications. An initial review of timely received applications will be conducted to determine eligibility, completeness, and responsiveness to this notice and the corresponding FFO and the scope of the stated program objectives. Applications determined to be ineligible, incomplete, and/or non-responsive may be eliminated from further review. However, NIST, in its sole discretion, may continue the review process for an application that is missing non-substantive information that can easily be rectified or cured.

(2) Full Review of Eligible, Complete, and Responsive Applications. Applications that are determined to be eligible, complete, and responsive will proceed for full reviews in accordance with the review and selection processes below. Eligible, complete and responsive applications will be grouped by the State in which the proposed MEP Center is to be established. The applications in each group will be reviewed by the same reviewers and will be evaluated, reviewed and selected as described below in separate groups.

(a) Evaluation and Review. Each application will be reviewed by at least three technically qualified reviewers who will evaluate each application based on the evaluation criteria set forth above and in Section V.1. of the corresponding FFO. Applicants may receive written follow-up questions in order for the reviewers to gain a better understanding of the applicant's proposal. Each reviewer will assign each application a numeric score, with a maximum score of 100. If a non-Federal employee reviewer is used, the reviewers may discuss the applications with each other, but scores will be determined on an individual basis, not as a consensus.

Applicants whose applications receive an average score of 70 or higher out of 100 will be deemed finalists. If deemed necessary, all finalists will be invited to participate with reviewers in a conference call and/or all finalists will be invited to participate in a site visit that will be conducted by the same reviewers at the applicant's location. Finalists will be reviewed and evaluated, and reviewers may revise their assigned numeric scores based on the evaluation criteria set forth above and in Section V.1. of the corresponding FFO as a result of the conference call and/or site visit.

(b) Ranking and Selection. The reviewers' final numeric scores for all finalists will be converted to ordinal rankings (i.e., a reviewer's highest score will be ranked “1”, second highest score will be ranked “2”, etc.). The ordinal rankings for an applicant will be summed and rank order will be established based on the lowest total for the ordinal rankings, and provided to the Selecting Official for further consideration.

The Selecting Official is the NIST Associate Director of Innovation and Industry Services or his designee. The Selecting Official makes the final recommendation to the NIST Grants Officer regarding the funding of applications under this notice and the corresponding FFO. NIST/MEP expects to recommend funding for the highest ranked applicant for each of the ten (10) States being competed under this notice and the corresponding FFO. However, the Selecting Official may decide to select an applicant out of rank order based upon one or more of the Selection Factors identified above and in Section V.3. of the corresponding FFO. The Selecting Official may also decide not to recommend funding for a particular State to any of the applicants.

NIST reserves the right to negotiate the budget costs with any applicant selected to receive an award, which may include requesting that the applicant remove certain costs. Additionally, NIST may request that the successful applicant modify objectives or work plans and provide supplemental information required by the agency prior to award. NIST also reserves the right to reject an application where information is uncovered that raises a reasonable doubt as to the responsibility of the applicant. The final approval of selected applications and issuance of awards will be by the NIST Grants Officer. The award decisions of the NIST Grants Officer are final.

Anticipated Announcement and Award Date. Review, selection, and award processing is expected to be completed in January 2015. The anticipated start date for awards made under this notice and the corresponding FFO is expected to be July 2015.

Additional Information

a. Application Replacement Pages. Applicants may not submit replacement pages and/or missing documents once an application has been submitted. Any revisions must be made by submission of a new application that must be received by NIST by the submission deadline.

b. Notification to Unsuccessful Applicants. Unsuccessful applicants will be notified in writing.

c. Retention of Unsuccessful Applications. An electronic copy of each non-selected application will be retained for three (3) years for record keeping purposes. After three (3) years, it will be destroyed.

Administrative and National Policy Requirements

The Department of Commerce Pre-Award Notification Requirements: The DoC Pre-Award Notification Requirements for Grants and Cooperative Agreements, which are contained in the Federal Register notice of December 17, 2012 (77 FR 74634), are applicable to this notice and the corresponding FFO and are available at https://www.federalregister.gov/articles/2012/12/17/2012-30228/department-of-commerce-pre-award-notification-requirements-for-grants-and-cooperative-agreements.

Employer/Taxpayer Identification Number (EIN/TIN), Dun and Bradstreet Data Universal Numbering System (DUNS), and System for Award Management (SAM): All applicants for Federal financial assistance are required to obtain a universal identifier in the form of DUNS number and maintain a current registration in the Federal government's primary registrant database, SAM. On the form SF-424 items 8.b. and 8.c., the applicant's 9-digit EIN/TIN and 9-digit DUNS number must be consistent with the information in SAM (https://www.sam.gov/) and the Automated Standard Application for Payment System (ASAP). For complex organizations with multiple EINs/TINs and DUNS numbers, the EIN/TIN and DUNS numbers MUST be the numbers for the applying organization. Organizations that provide incorrect/inconsistent EIN/TIN and DUNS numbers may experience significant delays in receiving funds if their application is selected for funding. Confirm that the EIN/TIN and DUNS number are consistent with the information on the SAM and ASAP. Please note that a federal assistance award cannot be issued if the designated recipient's registration in the System for Award Management (SAM.gov) is not current at the time of the award.

Per 2 CFR part 25, each applicant must:

1. Be registered in the Central Contractor Registration (CCR) before submitting an application, noting the CCR now resides in SAM;

2. Maintain an active CCR registration, noting the CCR now resides in SAM, with current information at all times during which it has an active Federal award or an application under consideration by an agency; and

3. Provide its DUNS number in each application it submits to the agency.

The applicant can obtain a DUNS number from Dun and Bradstreet. A DUNS number can be created within one business day. The CCR or SAM registration process may take five or more business days to complete. If you are currently registered with the CCR, you may not need to make any changes. However, please make certain that the EIN/TIN associated with your DUNS number is correct. Also note that you will need to update your CCR registration annually. This may take three or more business days to complete. Information about SAM is available at www.sam.gov. See also 2 CFR part 25 and the Federal Register notice published on September 14, 2010, at 75 FR 55671.

Paperwork Reduction Act: The standard forms in the application kit involve a collection of information subject to the Paperwork Reduction Act. The use of Standard Forms 424, 424A, 424B, SF-LLL, and CD-346 have been approved by OMB under the respective Control Numbers 0348-0043, 0348-0044, 0348-0040, 0348-0046, and 0605-0001. MEP program-specific application requirements have been approved by OMB under Control Number 0693-0056.

Notwithstanding any other provision of the law, no person is required to respond to, nor shall any person be subject to a penalty for failure to comply with, a collection of information subject to the requirements of the Paperwork Reduction Act, unless that collection of information displays a currently valid OMB Control Number.

DoC Representation by Corporations Regarding an Unpaid Delinquent Tax Liability or a Felony Conviction Under Any Federal Law. In accordance with the Federal appropriations law expected to be in effect at the time of project funding, NIST anticipates that the selected applicants will be provided a form and asked to make a representation regarding any unpaid delinquent tax liability or felony conviction under any Federal law.

Funding Availability and Limitation of Liability: Funding for the program listed in this notice and the corresponding FFO is contingent upon the availability of appropriations. In no event will NIST or DoC be responsible for application preparation costs if this program fails to receive funding or is cancelled because of agency priorities. Publication of this notice and the corresponding FFO does not oblige NIST or DoC to award any specific project or to obligate any available funds.

Other Administrative and National Policy Requirements: Additional administrative and national policy requirements are set forth in Section VI.2. of the corresponding FFO.

Executive Order 12866: This funding notice was determined to be not significant for purposes of Executive Order 12866.

Executive Order 13132 (Federalism): It has been determined that this notice does not contain policies with federalism implications as that term is defined in Executive Order 13132.

Executive Order 12372: Proposals under this program are not subject to Executive Order 12372, “Intergovernmental Review of Federal Programs.”

Administrative Procedure Act/Regulatory Flexibility Act: Notice and comment are not required under the Administrative Procedure Act (5 U.S.C. 553) or any other law, for matters relating to public property, loans, grants, benefits or contracts (5 U.S.C. 553(a)). Moreover, because notice and comment are not required under 5 U.S.C. 553, or any other law, for matters relating to public property, loans, grants, benefits or contracts (5 U.S.C. 553(a)), a Regulatory Flexibility Analysis is not required and has not been prepared for this notice, 5 U.S.C. 601 et seq.

Dated: July 28, 2014.
Jason Boehm,
Director, Program Coordination Office.

[FR Doc. 2014-18264 Filed 7-31-14; 8:45 am]

BILLING CODE 3510-13-P